NATIONAL SCIENCE FOUNDATION

Advisory Committee for Mathematical and Physical Sciences; Notice of Meeting

In accordance with the Federal Advisory Committee Act (Pub. L. 92-463, as amended), the National Science Foundation (NSF) announces the following meeting:

NAME AND COMMITTEE CODE: Advisory Committee for Mathematical and Physical Sciences (#66).

DATE AND TIME: November 30, 2020; 12:15 p.m. to 4:15 p.m.

PLACE: NSF, 2415 Eisenhower Avenue, Alexandria, VA 22314 (Virtual attendance).

To attend the virtual meeting, please send your request for the virtual meeting link to Kathleen McCloud at the following email address: kmccloud@nsf.gov.

TYPE OF MEETING: Open.

CONTACT PERSON: Leighann Martin, National Science Foundation, 2415 Eisenhower Avenue, Room C 9000, Alexandria, Virginia 22314; Telephone: 703/292-4659.

SUMMARY OF MINUTES: Minutes and meeting materials will be available on the MPS Advisory Committee website at http://www.nsf.gov/mps/advisory.jsp or can be obtained from the contact person listed above.

PURPOSE OF MEETING: To provide advice, recommendations and counsel on major goals and policies pertaining to MPS programs and activities.

Agenda

Monday, November 30, 2020

• Call to Order and Official Opening of the Meeting—Catherine Hunt, MPSAC Chair

• FACA and COI Briefing—Kathleen McCloud, MPS

• Approval of Prior Meeting Minutes—Catherine Hunt, MPSAC Chair

• UPDATE: MPS—Sean Jones, Assistant Director, MPS

• DMS COV Report Presentation—Russel Caflisch and Tatiana Toro, DMS CoV Chairs

• DMS COV Report discussion and vote on acceptance—Catherine Hunt, MPSAC Chair

• Update on the MPS and the Living World Subcommittee: Catherine Hunt, MPSAC Chair

• Implementation of community input on large scale NSF research infrastructure discussion: Ralph Gaume, AST Division Director

• Closing remarks and adjourn for the day

Dated: October 28, 2020.
Crystal Robinson,
Committee Management Officer.

[FR Doc. 2020-24252 Filed 11-2-20; 8:45 am]

BILLING CODE 7555-01-P